DEPARTMENT OF LABOR

Employment and Training Administration

[TA-W-74,593]

Whirlpool Corporation, Including On-Site Leased Workers From Career Solutions TEC Staffing, Andrews International, IBM Corporation, TEK Systems Penske Logistics, Eurest, Canteen, Kelly Services, Inc., Prodriver, and Arkansas Warehouse, Inc., Fort Smith, AR; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2010, applicable to workers of Whirlpool Corporation, including on-site leased workers from Career Solutions TEC Staffing, Fort Smith, Arkansas. The workers are engaged in the production of refrigerators and trash compactors. The notice was published in the Federal Register on October 25, 2010 (75 FR 65520). The notice was amended on December 6, 2010 to include on-site leased workers from Andrews International. The notice was published in the Federal Register on December 13, 2010 (75 FR 77665). The notice was amended on November 7, 2011 to include several on-site leased worker firms. The notice will be published soon in the Federal Register.

At the request of a company official, the Department reviewed the certification for workers of the subject firm. The company reports that workers leased from Kelly Services, Inc., Prodriver, and Arkansas Warehouse, Inc. were employed on-site at the Fort Smith, Arkansas location of Whirlpool Corporation. The Department has determined that these workers were sufficiently under the control of Whirlpool Corporation to be considered leased workers.

Based on these findings, the Department is amending this certification to include workers leased from Kelly Services, Inc., Prodriver, and Arkansas Warehouse, Inc. working on-site at the Fort Smith, Arkansas location of Whirlpool Corporation.

The amended notice applicable to TA-W-74,593 is hereby issued as follows:

All workers of Whirlpool Corporation, including on-site leased workers from Career Solutions TEC Staffing, Andrews International, IBM Corporation, TEK Systems, Penske Logistics, Eurest, Canteen, Kelly Services, Inc., Prodriver, and Arkansas Warehouse, Inc., Fort Smith, Arkansas, who became totally or partially separated from employment on or after October 2, 2010, through October 6, 2012, and all workers in the group threatened with total or partial separation from employment on the date of certification through two years from the date of certification, are eligible to apply for adjustment assistance under Chapter 2 of Title II of the Trade Act of 1974, as amended.

Signed at Washington, DC this 18th day of November 2011.
Michael W. Jaffe,
Certifying Officer, Office of Trade Adjustment Assistance.

[FR Doc. 2011-30656 Filed 11-28-11; 8:45 am]

BILLING CODE 4510-FN-P